INTERNATIONAL TRADE COMMISSION

[Investigation No. 337-TA-1006]

Certain Passenger Vehicle Automotive Wheels; Institution of Investigation

AGENCY: U.S. International Trade Commission.

ACTION: Notice.

SUMMARY: Notice is hereby given that a complaint was filed with the U.S. International Trade Commission on April 11, 2016, under section 337 of the Tariff Act of 1930, as amended, 19 U.S.C. 1337, on behalf of Daimler AG of Stuttgart, Germany. Supplements to the Complaint were filed on April 28, 2016 and April 29, 2016. On May 2, 2016, the Commission voted on Complainant's request to postpone the determination on whether to institute an investigation based on the Complaint, which was approved by the Commission. See EDIS Doc. ID 580171 (May 3, 2016). Complainant further supplemented the Complaint on May 18, 2016. The complaint as supplemented alleges violations of section 337 based upon the importation into the United States, the sale for importation, and the sale within the United States after importation of certain passenger vehicle automotive wheels by reason of infringement of U.S. Design Patent No. D542,211 (“the ’211 patent”); U.S. Design Patent No. D582,330 (“the ’330 patent”); U.S. Design Patent No. D656,078 (“the ’078 patent”); U.S. Design Patent No. D569,776 (“the ’776 patent”); U.S. Design Patent No. D602,834 (“the ’834 patent”); U.S. Design Patent No. D582,328 (“the ’328 patent”); U.S. Design Patent No. D542,726 (“the ’726 patent”); U.S. Design Patent No. D604,221 (“the ’221 patent”); U.S. Design Patent No. D570,760 (“the ’760 patent”); U.S. Design Patent No. D544,823 (“the ’823 patent”); U.S. Design Patent No. D486,437 (“the ’437 patent”); U.S. Design Patent No. D562,207 (“the ’207 patent”); U.S. Design Patent No. D635,904 (“the ’904 patent”); U.S. Design Patent No. D618,150 (“the ’150 patent”); U.S. Design Patent No. D585,802 (“the ’802 patent”); U.S. Design Patent No. D532,733 (“the ’733 patent”); U.S. Design Patent No. D572,646 (“the ’646 patent”); U.S. Design Patent No. D578,949 (“the ’949 patent”); U.S. Design Patent No. D638,772 (“the ’772 patent”); U.S. Design Patent No. D522,946 (“the ’946 patent”); U.S. Design Patent No. D638,766 (“the ’766 patent”); and U.S. Design Patent No. D610,516 (“the ’516 patent”); and U.S. Trademark Registration No. 3,614,891 (“the ’891 mark”); U.S. Trademark Registration No. 4,423,458 (“the ’458 mark”); U.S. Trademark Registration No. 3,305,055 (“the ’055 mark”); U.S. Trademark Registration No. 1,807,353 (“the ’353 mark”); U.S. Trademark Registration No. 1,660,727 (“the ’727 mark”); U.S. Trademark Registration No. 657,386 (“the ’386 mark”); U.S. Trademark Registration No. 285,557 (“the ’557 mark”); U.S. Trademark Registration No. 4,076,271 (“the ’271 mark”); U.S. Trademark Registration No. 3,224,584 (“the ’584 mark”); U.S. Trademark Registration No. 3,309,265 (“the ’265 mark”); U.S. Trademark Registration No. 2,876,643 (“the ’643 mark”); U.S. Trademark Registration No. 2,909,827 (“the ’827 mark”); U.S. Trademark Registration No. 2,654,240 (“the ’240 mark”); U.S. Trademark Registration No. 2,712,292 (“the ’292 mark”); U.S. Trademark Registration No. 2,028,111 (“the ’111 mark”); U.S. Trademark Registration No. 2,699,216 (“the ’216 mark”); U.S. Trademark Registration No. 2,716,842 (“the ’842 mark”); U.S. Trademark Registration No. 2,599,862 (“the ’862 mark”); U.S. Trademark Registration No. 2,028,107 (“the ’107 mark”); U.S. Trademark Registration No. 4,669,601 (“the ’601 mark”); U.S. Trademark Registration No. 3,103,610 (“the ’610 mark”); U.S. Trademark Registration No. 2,028,112 (“the ’112 mark”); U.S. Trademark Registration No. 3,100,860 (“the ’860 mark”); U.S. Trademark Registration No. 2,026,254 (“the ’254 mark”); U.S. Trademark Registration No. 2,815,926 (“the ’926 mark”); U.S. Trademark Registration No. 3,221,423 (“the ’423 mark”); U.S. Trademark Registration No. 2,227,526 (“the ’526 mark”); U.S. Trademark Registration No. 3,019,109 (“the ’109 mark”); U.S. Trademark Registration No. 2,837,833 (“the ’833 mark”); and U.S. Trademark Registration No. 2,529,332 (“the ’332 mark”). The complaint further alleges that an industry in the United States exists as required by subsection (a)(2) of section 337.

The complainant requests that the Commission institute an investigation and, after the investigation, issue a general exclusion order, or in the alternative a limited exclusion order, and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2015).

Scope of Investigation: Having considered the complaint, the U.S. International Trade Commission, June 13, 2016, ordered that—

(1) Pursuant to subsection (b) of section 337 of the Tariff Act of 1930, as amended, an investigation be instituted to determine;

(a) whether there is a violation of subsection (a)(1)(B) of section 337 in the importation into the United States, the sale for importation, or the sale within the United States after importation of certain passenger vehicle automotive wheels by reason of infringement of the claims of the '211 patent, the '330 patent, the '776 patent, '726 patent, the '760 patent, the '823 patent, the '150 patent, the '733 patent, and the '772 patent, and whether an industry in the United States exists as required by subsection (a)(2) of section 337;

(b) whether there is a violation of subsection (a)(1)(C) of section 337 in the importation into the United States, the sale for importation, or the sale within the United States after importation of certain passenger vehicle automotive wheels by reason of infringement of the '891 mark, the '458 mark, the '055 mark, the '353 mark, the '727 mark, the '386 mark, the '557 mark, '271 mark, the '584 mark, the '265 mark, the '643 mark, the '827 mark, the '240 mark, the '216 mark, the '842 mark, the '833 mark, and the '332 mark, and whether an industry in the United States exists as required by subsection (a)(2) of section 337;

(2) For the purpose of the investigation so instituted, the following are hereby named as parties upon which this notice of investigation shall be served:

(a) The complainant is:

Daimler AG, Mercedesstrasse 137, 70327 Stuttgart, GERMANY

(b) The respondents are the following entities alleged to be in violation of section 337, and are the parties upon which the complaint is to be served:

A-Z Wheels LLC d/b/a UsaRim/UsaRim.com/Eurotech Wheels, 8925 Carroll Way, Suites C/D, San Diego, CA 92121

Galaxy Wheels & Tires, LLC, 8925 Carroll Way, Suites C/D, San Diego, CA 92121

Infobahn International, Inc. d/b/a Infobahn/Eurotech/Eurotech Luxury, Wheels/Eurotech Wheels/UsaRim, 8925 Carroll Way, Suites C/D, San Diego, CA 92121

Amazon.com, Inc., 410 Terry Avenue North, Seattle, WA 98109

A Spec Wheels & Tires LLC d/b/a A SPEC Wheels & Tires, 2035 American Avenue, Hayward, CA 94545

American Tire Distributors Holdings, Inc., 12200 Herbert Wayne Court, Suite 150, Huntersville, NC 28078

American Tire Distributors, Inc., 12200 Herbert Wayne Court, Suite 150, Huntersville, NC 28078

Onyx Enterprises Int'l, Corp. d/b/a CARiD.COM, 1 Corporate Drive Suite C, Cranbury, NJ 08512

O.E. Wheel Distributors, LLC, 1916 72nd Drive East, Sarasota, FL 34243

Powerwheels Pro, LLC, 1058 Highland Road, Waterford, MI 48328

Trade Union International Inc. d/b/a Topline, 4651 State Street, Montclair, CA 91763

(c) The Office of Unfair Import Investigations, U.S. International Trade Commission, 500 E Street SW., Suite 401, Washington, DC 20436; and

(3) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: June 13, 2016.
Lisa R. Barton,
Secretary to the Commission.

[FR Doc. 2016-14337 Filed 6-16-16; 8:45 am]

BILLING CODE 7020-02-P